DEPARTMENT OF LABOR

Employment and Training Administration

[TA-W-64,897]

Sanford, Including On-Site Leased Workers From Holland Employment and Willstaff, Lewisburg, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 3, 2009, applicable to workers of Sanford, including on-site leased workers from Holland Employment, Lewisburg, Tennessee. The notice was published in the Federal Register on March 3, 2009 (74 FR 9282).

At the request of the State agency, the Department reviewed the certification for workers of the subject firm. The workers are engaged in the production of dymo labels, pencils, and other writing instruments.

New information shows that the Lewisburg, Tennessee location of the subject firm employs on-site leased workers contracted from Willstaff. The Department has determined that Willstaff workers are sufficiently under the control of the subject firm to be considered leased workers.

Based on these findings, the Department is amending this certification to include workers leased from Willstaff working on-site at the Lewisburg, Tennessee location of Sanford.

The amended notice applicable to TA-W-64,897 is hereby issued as follows:

All workers of Sanford, including on-site leased workers from Holland Employment and Willstaff, Lewisburg, Tennessee, who became totally or partially separated from employment on or after January 15, 2008, through February 3, 2011, are eligible to apply for adjustment assistance under Section 223 of the Trade Act of 1974, and are also eligible to apply for alternative trade adjustment assistance under Section 246 of the Trade Act of 1974.

Signed at Washington, DC, this 17th day of December 2009.
Michael W. Jaffe,
Certifying Officer, Division of Trade Adjustment Assistance.

[FR Doc. E9-31389 Filed 1-5-10; 8:45 am]

BILLING CODE 4510-FN-P